DEPARTMENT OF THE INTERIOR

Fish and Wildlife Service

Notice of Availability of Recovery Goals for Four Endangered Fishes of the Colorado River Basin

AGENCY: Fish and Wildlife Service, Interior.

ACTION: Notice of document availability.

SUMMARY: To further the recovery of humpback chub (Gila cypha), bonytail (Gila elegans), Colorado pikeminnow (Ptychocheilus lucius), and razorback sucker (Xyrauchen texanus), we, the Fish and Wildlife Service announce the availability of recovery goals for these endangered fishes of the Colorado River Basin. This information will serve as an amendment and supplement to the respective existing recovery plans for each species. The recovery goals for each species provide objective, measurable recovery criteria for downlisting and delisting that identify levels of demographic and genetic viability needed for self-sustaining populations and site-specific management actions/tasks needed to minimize or remove threats.

SUPPLEMENTARY INFORMATION: The purpose of these recovery goals is to describe site-specific management actions/tasks; provide objective, measurable recovery criteria; and provide estimates of the time required to achieve recovery of each of the four endangered fish species. Recovery of the humpback chub, bonytail, and razorback sucker is considered in two recovery units, i.e., upper basin (upstream of Glen Canyon Dam, Arizona) and lower basin. Recovery of the Colorado pikeminnow is considered only in the upper basin recovery unit. Downlisting and delisting criteria by listing factors and management actions, as well as demographic criteria, are presented for populations of each species within the recovery units. In addition, updated life-history information and estimated time to achieve the downlisting and delisting requirements are also presented. These recovery goals serve as amendments and supplements to the recovery plans by providing more specific objective and measurable criteria to recover each of the four fish species.

Draft recovery goals were made available for public comment on September 10, 2001, through a Federal Register Notice of Availability (66 FR 47033-47034) and on November 23, 2001, through a Federal Register Notice of Reopening (66 FR 58748). Comments were categorized by topic and responded to in a separate document entitled, “Responses to public comments on draft recovery goals for the Colorado pikeminnow, humpback chub, razorback sucker, and bonytail.”

Paper and compact disc copies of the documents will be mailed to interested parties upon request. The recovery goals are also available (in*. pdf format) for viewing and downloading http://www.r6.fws.gov/crrip/rg.htm. Make requests to the Director at the address below.

ADDRESSES: Mail requests to Dr. Robert Muth, Director, Upper Colorado River Endangered Fish Recovery Program, U.S. Fish and Wildlife Service, Post Office Box 25486, DFC, Denver, Colorado, 80225.

FOR FURTHER INFORMATION CONTACT: Dr. Robert Muth, Director (extension 268), Dr. Thomas Czapla (extension 228) or Ms. Debra Felker (extension 227), Coordinators (see ADDRESSES above), at telephone (303) 969-7322.

Dr. Ralph O. Morgenweck,
Regional Director, Denver, Colorado.

[FR Doc. 02-21883 Filed 8-27-02; 8:45 am]

BILLING CODE 4310-55-P